NUCLEAR REGULATORY COMMISSION

[Docket No. 50-213; NRC-2010-0201]

Connecticut Yankee Atomic Power Company; Haddam Neck Plant; Notice of Issuance of Amendment To Operating License No. DPR-61

AGENCY: Nuclear Regulatory Commission.

ACTION: Notice of Issuance of Amendment to Operating License No. DRP-61.

FOR FURTHER INFORMATION CONTACT: John Goshen, Project Manager, Division of Spent Fuel Storage and Transportation, Office of Nuclear Material Safety and Safeguards, Mail Stop EBB-3D-02M, U.S. Nuclear Regulatory Commission, Washington, DC, 20555-0001. Telephone: (301) 492-3325; e-mail: john.goshen@nrc.gov.

SUPPLEMENTARY INFORMATION: Haddam Neck completed the transfer of their spent fuel to the independent spent fuel storage installation (ISFSI) in 2005. In 2007, the decommissioning of the reactor site was completed and a portion of the site was released from the license.

By application dated April 2, 2009, as supplemented March 30, 2010, Connecticut Yankee Atomic Power Company (CYAPC) submitted an application to the U. S. Nuclear Regulatory Commission (NRC), in accordance with 10 CFR Part 50, requesting an amendment to NRC Operating License No. DPR-61. CYAPC's application requested that the title of the Physical Security Plan in the Operating License be modified to reflect the proper title. The Notice of Consideration of Issuance of Amendment and Proposed No Significant Hazards Consideration Determination and Opportunity for Hearing in connection with this action was published in the Federal Register on June 14, 2010 (75 FR 33653).

On September 10, 2010, the NRC approved and issued Amendment No. 203 to Operating License No. DPR-61, held by CYAPC for the possession of the Haddam Neck facility pursuant to 10 CFR Part 50 and for the receipt, possession, and use of byproduct, source, and special nuclear material in accordance with 10 CFR parts 30, 40, and 70. Amendment No. 203 is effective as of the date of issuance and shall be implemented within 30 days from the date of issuance.

Amendment No. 203 complies with the standards and requirements of the Atomic Energy Act of 1954, as amended (the Act), and the NRC's rules and regulations. As required by the Act and the NRC's rules and regulations in 10 CFR Chapter I, the NRC has made appropriate findings, which are set forth in Amendment No. 203 Safety Evaluation Report (SER). The issuance of Amendment No. 203 satisfied the criteria specified in 10 CFR 51.22(c)(10)(ii) for a categorical exclusion. Thus, the preparation of an environmental assessment or an environmental impact statement is not required.

The NRC has prepared a SER that documents the staff's review and evaluation of the amendment. In accordance with 10 CFR 2.390 of NRC's “Rules of Practice,” final NRC records and documents related to this action, including the application for amendment and supporting documentation and the SER, are available electronically at the NRC's Electronic Reading Room, at: http://www.nrc.gov/reading-rm/adams.html. From this site, you can access NRC's Agencywide Document Access and Management System (ADAMS), which provides text and image files of NRC's public documents. The ADAMS Accession Numbers for the applicable documents are:

Document | Date | ADAMS Accession No.
License Amendment Request | April 2, 2009 | ML091250324
Re-submittal of License Amendment Request | September 1, 2009 | ML101100480
License Amendment No. 203 Issuance Package | September 10, 2010 | ML102460099
Safety Evaluation Report | September 10, 2010 | ML102460121

If you do not have access to ADAMS, or if there are problems in accessing the documents located in ADAMS, contact NRC's Public Document Room (PDR) Reference staff at 1-800-397-4209, 301-415-4737, or by e-mail to pdr@nrc.gov.

These documents may also be viewed electronically on the public computers located at NRC's PDR, O1-F21, One White Flint North, 11555 Rockville Pike, Rockville, MD 20852. The PDR reproduction contractor will copy documents, for a fee.

Dated at Rockville, Maryland, this 10th day of September, 2010.
For the Nuclear Regulatory Commission.
Michele Sampson,
Acting Chief, Licensing Branch, Division of Spent Fuel Storage and Transportation, Office of Nuclear Material Safety and Safeguards.

[FR Doc. 2010-23512 Filed 9-20-10; 8:45 am]

BILLING CODE 7590-01-P